DEPARTMENT OF HEALTH AND HUMAN SERVICES

Food and Drug Administration

21 CFR Part 201

[Docket No. FDA-1978-N-0018] (formerly Docket No. 1978N-0038)

RIN 0910-AF43

Labeling and Effectiveness Testing; Sunscreen Drug Products for Over-the-Counter Human Use

Correction

In rule document 2011-14766 appearing on pages 35620-35665 in the issue of Friday, June 17, 2011, make the following correction:

§ 201.327 [Corrected]

In § 201.327, on page 35661, in the third column, § 201.327(i)(1)(ii)(A)(2) and (3) should read as follows:

(2) Vi (λ) = 100.094 * (²⁹⁸-λ) (298 < λ ≤ 328 nm)

(3) Vi (λ) = 100.015 * (¹⁴⁰-λ) (328 < λ ≤ 400 nm)

[FR Doc. C1-2011-14766 Filed 7-1-11; 8:45 am]

BILLING CODE 1505-01-D